NATIONAL SCIENCE FOUNDATION

National Science Board—Committee on Nominating for NSB Elections

Sunshine Act Meetings; Notice

The National Science Board's Committee on Nominating for NSB Elections, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Date and Time: Friday, May 4, 2007 at 10:30.

Subject Matter: Discussion of candidates for the National Science Board Executive Committee.

Status: Closed.

This meeting will be held by teleconference originating at the National Science Board Office, National Science Foundation, 4201 Wilson Blvd., Arlington, VA 22230. Please refer to the National Science Board Web site (http://www.nsf.gov/nsb) for information or schedule updates, or contact: Ann Ferrante, National Science Board Office, 4201 Wilson Blvd., Arlington, VA 22230. Telephone: (703) 292-7000.

Russell Moy,
Attorney-Advisor.

[FR Doc. E7-8418 Filed 5-2-07; 8:45 am]

BILLING CODE 7555-01-P